DEPARTMENT OF LABOR

Employment and Training Administration

[TA-W-42,046]

B-W Specialty Manufacturing, Seattle, WA; Notice of Negative Determination Regarding Application for Reconsideration

By application of November 29, 2002, a petitioner requested administrative reconsideration of the Department's negative determination regarding eligibility to apply for Trade Adjustment Assistance (TAA), applicable to workers and former workers of the subject firm. The denial notice was signed on October 31, 2002, and published in the Federal Register on November 22, 2002 (67 FR 70460).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of B-W Specialty Manufacturing, Seattle, Washington was denied because the “contributed importantly” group eligibility requirement of section 222(3) of the Trade Act of 1974, as amended, was not met. The “contributed importantly” test is generally demonstrated through a survey of customers of the workers' firm. The survey revealed that none of the respondents increased their purchases of imported wood cores for skis.

The petitioner states layoffs are attributable to the subject firms' largest customer replacing their purchases of wood cores with those manufactured at a foreign facility. They appear to maintain that, because these “wood ski cores are a main part of the ski”, the customer imports of skis have a direct bearing on subject firm workers' eligibility for trade adjustment assistance. They further appear to claim that the Department of Labor may have been provided the wrong information by the company, as the “increased imports” of skis by this customer “directly replaced the same products we made.”

As indicated in the initial investigation, the workers produced wood cores used in the production of skis. The wood cores were sold to a customer that incorporated the wood cores into a completed ski. That customer acquired production equipment of wood cores from the subject firm for the purpose of producing the wood cores at a foreign facility. The customer incorporates these cores into a finished ski at that foreign facility. Thus, the finished ski that is imported is not the same as wood core produced at the subject firm.

In conclusion, the imports of skis is not “like or directly competitive” with the product produced (wood cores for skis) by the subject firm.

Conclusion

After review of the application and investigative findings, I conclude that there has been no error or misinterpretation of the law or of the facts which would justify reconsideration of the Department of Labor's prior decision. Accordingly, the application is denied.

Signed at Washington, DC, this 19th day of February 2003.
Edward A. Tomchick,
Director, Division of Trade Adjustment Assistance.

[FR Doc. 03-6418 Filed 3-17-03; 8:45 am]

BILLING CODE 4510-30-P